SECURITIES AND EXCHANGE COMMISSION

Sunshine Act Meeting

Notice is hereby given, pursuant to the provisions of the Government in the Sunshine Act, Public Law 94-409, that the Securities and Exchange Commission will hold an Open Meeting on July 26, 2011 at 10 a.m., in the Auditorium, Room L-002, to hear oral argument in an appeal by International Power Group, Ltd. (IPWG) from action by the Depository Trust Company (DTC).

DTC operates an automated, centralized system for book-entry movement of securities positions in the accounts of its Participants, broker-dealers and other firms, with respect to trades of Eligible Securities. DTC provides two levels of services to its Participants for Eligible Securies: (1) A full range of depository services including book-entry delivery and settlement, and (2) custodial service. IPWG is a Delaware corporation, the common stock of which was accepted by the DTC as an Eligible Security for all purposes.

On September 30, 2009, DTC issued an “Important Notice” that stated, “As a result of [certain civil litigation], DTC has suspended all services, except Custody Services, for [the common stock of IPWG].”

IPWG challenges DTC's issuance of the Important Notice. Issues likely to be considered at oral argument include whether the Commission has jurisdiction to hear IPWG's challenge pursuant to Securities Exchange Act Section 19(f), and the extent to which DTC is required to provide fair procedures to issuers such as IPWG pursuant to Securities Exchange Act 17A(b)(3)(H).

At times, changes in Commission priorities require alterations in the scheduling of meeting items.

For further information, please contact the Office of the Secretary at (202) 551-5400.

Dated: July 19, 2011.
Elizabeth M. Murphy,
Secretary.

[FR Doc. 2011-18680 Filed 7-20-11; 4:15 pm]

BILLING CODE 8011-01-P